DEPARTMENT OF HOUSING AND URBAN DEVELOPMENT

[Docket No. FR 4819-N-01]

Notice of Proposed Information Collection: Study of the Primary Prevention Effectiveness of the Milwaukee Lead Hazard Control Ordinance

AGENCY: Office of Healthy Homes and Lead Hazard Control, HUD.

ACTION: Notice.

SUMMARY: The proposed information collection requirement described below will be submitted to the Office of Management and Budget (OMB) for review, as required by the Paperwork Reduction Act. The Department is soliciting public comments on the subject proposal.

DATES: Comments Due Date: May 20, 2003.

ADDRESSES: Interested persons are invited to submit comments regarding this proposal. Comments should refer to the proposal by name and/or OMB Control Number and should be sent to: Gail N. Ward, Reports Liaison Officer, Department of Housing and Urban Development, 451 7th Street, SW., Room P3206, Washington, DC 20410.

FOR FURTHER INFORMATION CONTACT: Dr. Peter Ashley, 202-755-1785 ext. 115 (this is not a toll-free number), for copies of the proposed forms and other available documents.

SUPPLEMENTARY INFORMATION: The Department is submitting the proposed information collection to OMB for review, as required by the Paperwork Reduction Act of 1995 (44 U.S.C. Chapter 35, as amended).

This Notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

Title of Proposal: Study of the Effectiveness of Program Implementation of the Milwaukee Lead Hazard Control Ordinance.

OMB Control Number: 2539-0017.

Need for the Information and Proposed Use: Despite dramatic reductions in blood-lead levels over the pass 15 years, lead poisoning continues to be significant health risk for young children. The Third National Health and Nutrition Examination Survey suggests that the greatest risk exists for children under the age of two. The development of a viable national strategy for the primary prevention of lead poisoning in these young children is a difficult task. The City of Milwaukee has enacted an ordinance requiring owners of pre-1950 rental properties in two target neighborhoods to carry out specified essential maintenance practices and standard treatments by April 30, 2000. The purpose of this information collection activity is to evaluate the feasibility, costs, and effectiveness (in terms of reducing residential dust-lead levels and preventing elevated blood-lead levels in children under two years of age) of the comprehensive primary prevention program being conducted in the two target Milwaukee neighborhoods. The collection information will be used as vital input for developing a viable national strategy for the primary prevention of childhood lead poisoning.

This information collection will involve conducting brief on-site interviews of tenants, conducting visual inspections of rental units, collecting dust-wipe samples for lead analysis from selected floor and window sill locations, and obtaining bold-samples from study subjects. If appropriate, the results of this information collection will be used to improve existing HUD guidance for primary prevention lead-hazard control activities.

Agency Form Numbers: Not applicable.

Members of Affected Public: Selected residents of study neighborhoods within the City of Milwaukee.

Total Burden Estimate (First Year):

Task | Number of respondents | Frequency of responses | Total hours of responses
Respondents | 320 | 4 | 640
Total Estimated Burden Hours |  |  | 640

Status of the Proposed Information Collection: Extensions of a currently approved collection.

Authority: The Paperwork Reduction Act of 1995, 44 U.S.C. Chapter 35, as amended.

Dated: March 13, 2003.
David E. Jacobs,
Director, Office of Healthy Homes and Lead Hazard Control.

[FR Doc. 03-6862 Filed 3-20-03; 8:45 am]

BILLING CODE 4210-70-M